DEPARTMENT OF JUSTICE

Notice of Lodging of Proposed Consent Decree Under The Toxic Substances Control Act

On December 17, 2020, the Department of Justice lodged a proposed consent decree with the United States District Court for the Northern District of Georgia in the lawsuit entitled United States, the State of Utah, the State of Rhode Island and the Commonwealth of Massachusetts Executive Office of Workforce Development, Department of Labor Standards v. The Home Depot, U.S.A., Inc., Civil Action No. 1:20CV5112.

The United States, in conjunction with the State of Utah, the State of Rhode Island, and the Commonwealth of Massachusetts Executive Office of Workforce Development, Department of Labor Standards, filed this lawsuit under the Toxic Substances Control Act (TSCA) alleging violations of the Act's Renovation, Repair, and Painting (“RRP”) regulations, 40 CFR part 745, which address lead paint hazards at home renovations. The complaint alleges that Home Depot performed renovations through its retail stores at approximately 2000 homes covered by the RRP regulations without using EPA certified firms, among other allegations. The proposed consent decree requires Home Depot to institute a compliance program and pay a civil penalty of $20,750,000.

The publication of this notice opens a period for public comment on the proposed consent decree. Comments should be addressed to the Assistant Attorney General, Environment and Natural Resources Division, and should refer to United States, the State of Utah, the State of Rhode Island and the Commonwealth of Massachusetts Executive Office of Workforce Development, Department of Labor Standards v. The Home Depot, U.S.A., Inc., D.J. Ref. No. 90-5-1-1-11854. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $22.25 (25 cents per page reproduction cost) payable to the United States Treasury.

Patricia McKenna,
Assistant Section Chief, Environmental Enforcement Section, Environment and Natural Resources Division.

[FR Doc. 2020-28439 Filed 12-22-20; 8:45 am]

BILLING CODE 4410-15-P